NATIONAL AERONAUTICS AND SPACE ADMINISTRATION

48 CFR Part 1852

NASA Federal Acquisition Regulation Supplement

AGENCY: National Aeronautics and Space Administration.

ACTION: Technical amendments.

SUMMARY: NASA is making technical amendments to the NASA FAR Supplement (NFS) to provide needed editorial changes.

DATES: Effective: January 21, 2016.

FOR FURTHER INFORMATION CONTACT: Manuel Quinones, NASA, Office of Procurement, Contract and Grant Policy Division, via email at manuel.quinones@nasa.gov, or telephone (202) 358-2143.

SUPPLEMENTARY INFORMATION:

I. Background

As part NASA's retrospective review of existing regulations pursuant to section 6 of Executive Order 13563, Improving Regulation and Regulatory Review, NASA conducted a review of its regulations and published a final rule in the Federal Register on March 12, 2015 (80 FR 12946). As published, this rule contains errors due to inadvertent omissions. A summary of changes follows:

• Section 1852.214-72 is revised to correct the clause prescription from 1814.201-670(b) to 1814.201-670(c).

• Section 1852.232-70 is revised to correct the clause date from “AUG 2003” to “APR 2015.”

• Section 1852.246-72 is revised to correct the clause date from “AUG 2003” to “APR 2015.”

List of Subjects in 48 CFR Part 1852

Government procurement.

Manuel Quinones,
NASA FAR Supplement Manager.

Accordingly, 48 CFR part 1852 is amended as follows:

PART 1852—SOLICITATION PROVISIONS AND CONTRACT CLAUSES

1. The authority citation for part 1852 continues to read as follows:

Authority: 51 U.S.C. 20113(a) and 48 CFR chapter 1.

1852.214-72 [Amended]

2. Amend section 1852.214-72 by removing “1814.201-670(b)” and adding “1814.201-670(c)” in its place.

1852.232-70 [Amended]

3. Amend section 1852.232-70 by removing “AUG 2003” and adding “APR 2015” in its place.

1852.246-72 [Amended]

4. Amend section 1852.246-72 by removing “AUG 2003” and adding “APR 2015” in its place.

[FR Doc. 2016-01085 Filed 1-20-16; 8:45 am]

BILLING CODE 7510-13-P